DEPARTMENT OF ENERGY

Federal Energy Regulatory Commission

[Docket No. RP99-324-003]

Koch Gateway Pipeline Company; Notice of Compliance Filing

October 12, 2000.

Take notice that on October 5, 2000, Koch Gateway Pipeline Company (Koch) filed additional information regarding its annual cash-out report in compliance with the Commission's August 3, 2000 letter order requiring Koch to provide additional information to support the activity in the Report.

Koch states that copies of the filing have been served upon each party designated on the official service list compiled by the Secretary in the above captioned proceeding.

Any person desiring to protest said filing should file a protest with the Federal Energy Regulatory Commission, 888 First Street, NE., Washington, DC 20426, in accordance with Section 385.211 of the Commission's Rules and Regulations. All such protests must be filed on or before October 18, 2000. Protests will be considered by the Commission in determining the appropriate action to be taken, but will not serve to make protestants parties to the proceedings. Copies of the filing are on file with the Commission and are available for public inspection in the Public Reference Room. This filing may be viewed on the web at http://www.ferc.fed.us/online/rims.htm (call 202-208-222 for assistance).

David P. Boergers,
Secretary.

[FR Doc. 00-26700 Filed 10-17-00; 8:45 am]

BILLING CODE 6717-01-M